DEPARTMENT OF HOMELAND SECURITY

Coast Guard

[Docket No. USCG-2016-0753]

Merchant Mariner Medical Advisory Committee

AGENCY: Coast Guard, Department of Homeland Security.

ACTION: Notice of Federal Advisory Committee meeting.

SUMMARY: The Merchant Mariner Medical Advisory Committee and its working groups will meet to discuss matters relating to medical certification determinations for issuance of licenses, certificates of registry, merchant mariners' documents, medical standards and guidelines for the physical qualifications of operators of commercial vessels, medical examiner education, and medical research. The meetings will be open to the public.

DATES: The Merchant Mariner Medical Advisory Committee and its working groups are scheduled to meet on Thursday, September 15, 2016 from 8 a.m. to 5:15 p.m. and Friday September 16, 2016, from 8 a.m. to 5:00 p.m. Please note that these meetings may adjourn early if the Committee has completed its business. These meetings will be held as scheduled subject to the finalization of meeting site arrangements. Anyone interested in attending the meeting may want to contact the Coast Guard before making their travel and hotel reservations. Please contact Mr. R. Sam Teague, listed in the FOR FURTHER INFORMATION CONTACT section to confirm that the meeting will be held on these dates or if the meeting has been re-scheduled.

ADDRESSES: The meetings will be held at the St. Louis City Center Hotel, 400 South 14th Street, St. Louis, Missouri 63103 (http://www.stlouiscitycenterhotel.com/). For further information about the meeting facilities, please contact the St. Louis City Center Hotel at (314) 231-5007.

For information on facilities or services for individuals with disabilities or to request special assistance at the meeting, contact the Alternate Designated Federal Officer as soon as possible.

Instructions: To facilitate public participation, we are inviting public comment on the issues to be considered by the Committee as listed in the “Agenda” section below. Written comments for distribution to Committee members must be submitted no later than September 8, 2016, if you want the Committee members to be able to review your comments before the meeting. You must include “Department of Homeland Security” and the docket number USCG-2016-0753. Written comments may be submitted using the Federal eRulemaking Portal: http://www.regulations.gov. For technical difficulties, contact the individual in the FOR FURTHER INFORMATION CONTACT section of this document. Comments received will be posted without alteration at http://www.regulations.gov, including any personal information provided. You may review a Privacy Act notice regarding the Federal Docket Management System in the March 24, 2005 issue of the Federal Register (70 FR 15086).

Docket Search: For access to the docket to read documents or comments related to this notice, go to http://www.regulations.gov, type USCG-2016-0753 in the “Search” box, press Enter and then click on the item you wish to view.

FOR FURTHER INFORMATION CONTACT: Mr. R. Sam Teague, Alternate Designated Federal Officer for the Merchant Mariner Medical Advisory Committee, 2703 Martin Luther King Jr. Ave. SE., Stop (7509), Washington, District of Columbia 20593-7509, telephone 202-372-1425, fax 202-372-8382 or Ronald.s.teague@uscg.mil.

SUPPLEMENTARY INFORMATION: Notice of this meeting is in compliance with the Federal Advisory Committee Act, Title 5 United States Code Appendix. The Merchant Mariner Medical Advisory Committee Meeting is authorized by 46 United States Code 7115, as amended by section 210 of the Coast Guard Authorization Act of 2010 (Pub. L. 111-281), and advises the Secretary on matters related to (a) medical certification determinations for issuance of licenses, certificates of registry, and merchant mariners' documents; (b) medical standards and guidelines for the physical qualifications of operators of commercial vessels; (c) medical examiner education; and (d) medical research.

Agenda

Day 1

The agenda for the September 15, 2016 meeting is as follows:

(1) Opening remarks from the Designated Federal Officer.

(2) Opening remarks from Coast Guard leadership.

(3) Roll call of Committee members and determination of a quorum.

(4) Swearing in of new Committee members.

(5) Introduction of new task(s) found in paragraph 7 below.

(6) Public comment period.

(7) Working Groups addressing the following task statements may meet to deliberate—

(a) Task statement 21, requesting recommendations on chiropractors conducting mariner medical exams.

(b) Task statement 22, requesting recommendations on mariner medical examinations of mariners prescribed the use of Marijuana.

(c) Task statement 23, requesting merchant mariner educational material on over the counter medications and stimulants.

(d) Task statement 24, requesting recommendations on appropriate diets and wellness for mariners while onboard merchant vessels.

(e) The Committee may receive new task statements from the Coast Guard, review the information presented on each issue, deliberate and formulate recommendations for the Department's consideration.

(8) Adjournment of meeting.

Day 2

The agenda for the September 16, 2016, meeting is as follows:

(1) National Maritime Center Brief.

(2) Marine casualty data analysis presentation.

(3) Continue work on task statements.

(4) Public comment period.

(5) By mid-afternoon, the Working Groups will report, and if applicable, make recommendations for the full Committee to consider for presentation to the Coast Guard. The Committee may deliberate and vote on the Working Group's recommendations on this date. The public will have an opportunity to speak after each Working Group's Report before the full Committee takes any action on each report.

(6) Closing remarks/plans for next meeting.

(7) Adjournment of Meeting.

A public comment period will be held on September 15, 2016, from approximately 11:30 a.m.-12:00 p.m. and September 16, 2016, from approximately 2:15 p.m.-2:45 p.m. Speakers are requested to limit their comments to 5 minutes. Please note that the public comment period may end before the time indicated, following the last call for comments. Additionally, public comment will be sought throughout the meeting as specific issues are discussed by the Committee. Contact Mr. R. Sam Teague as indicated in the FOR FURTHER INFORMATION CONTACT section of this document to register as a speaker.

Dated: August 24, 2016.
J.G. Lantz,
Director of Commercial Regulations and Standards.

[FR Doc. 2016-20642 Filed 8-26-16; 8:45 am]

BILLING CODE 9110-04-P